DEPARTMENT OF THE INTERIOR

Geological Survey

[GX15 LC00BM3FD00]

Agency Information Collection Activities: Request for Comments

AGENCY: U.S. Geological Survey (USGS), Interior.

ACTION: Notice of revision of a currently approved information collection, (1028-0079).

SUMMARY: We (the U.S. Geological Survey) are asking Office of Management and Budget (OMB) the information collection request (ICR) described below. The revision includes no changes to forms or instructions. To comply with the Paperwork Reduction Act of 1995 (PRA) and as part of our continuing efforts to reduce paperwork and respondent burden, we invite the general public and other Federal agencies to take this opportunity to comment on this ICR. This collection is scheduled to expire on September 30, 2015.

DATES: To ensure that your comments on this ICR are considered, OMB must receive them on or before October 1, 2015

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-1079 NORTH AMERICAN BREEDING BIRD SURVEY'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-1079: NORTH AMERICAN BREEDING BIRD SURVEY' in all correspondence.

FOR FURTHER INFORMATION CONTACT: Keith Pardieck, USGS Patuxent Wildlife Research Center, 12100 Beech Forest Road, Laurel, MD 20708-4038 (mail); 301-497-5843 (phone); or kpardieck@usgs.gov (email). You may also find information about this ICR at www.reginfo.gov.

SUPPLEMENTARY INFORMATION:

I. Abstract

Respondents supply the U.S. Geological Survey with avian population data for more than 600 North American bird species. The raw survey data, resulting population trend estimates, and relative abundance estimates will be made available via the Internet and through special publications, for use by Government agencies, industry, education programs, and the general public. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

II. Data

OMB Control Number: 1028-0079.

Form Number: Various (12 forms).

Title: NORTH AMERICAN BREEDING BIRD SURVEY.

Type of Request: Extension without change of a currently approved collection.

Respondent Obligation: None.

Frequency of Collection: Annually.

Description of Respondents: General public skilled in bird identification.

Estimated Total Number of Annual Responses: 2,650.

Estimated Time per Response: We estimate that it will take 11 hour(s) per response.

Estimated Annual Burden Hours: 29,150.

Estimated Reporting and Recordkeeping “Non-Hour Cost” Burden: The non-hour costs are based upon Federal Personal Vehicle Mileage costs at an average rate of $57.50 per response. This includes an approximate 100-mile round trip for data collection. The total for 2,650 responses is $152,375.

Public Disclosure Statement: The PRA (44 U.S.C. 3501, et seq.) provides that an agency may not conduct or sponsor and you are not required to respond to a collection of information unless it displays a currently valid OMB control number. Until the OMB approves a collection of information, you are not obliged to respond.

Comments: On April 3, 2015, we published a Federal Register notice (80 FR 18253) announcing that we would submit this ICR to OMB for approval and soliciting comments. The comment period closed on June 2, 2015. We received one comment from the public; however, the comment was not directly related to this project. It was a rejection of all government data collection.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Mark Wimer,
Deputy Director, USGS Patuxent Wildlife Research Center.

[FR Doc. 2015-21617 Filed 8-31-15; 8:45 am]

BILLING CODE 4311-AM-P